DEPARTMENT OF HEALTH AND HUMAN SERVICES

Centers for Disease Control and Prevention

[30DAY-16-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Studies of Adverse Reproductive Outcomes in Female Occupational Groups (0920-0367)—EXTENSION—National Institute for Occupational Safety and Health (NIOSH). An estimated 50,000 to 60,000 chemicals are in common use throughout society today and hundreds of new chemicals are introduced each year. Yet the list of environmental chemicals and agents that have been investigated to determine whether they have adverse effects on reproductive health is still limited. With the growing number of women in the work force, it is becoming increasingly important to evaluate the potential female reproductive health effects of occupational and physical agents.

This study will examine reproductive disorders among female flight attendants. Approximately 66,000 flight attendants are currently employed by U.S. commercial airlines and are potentially exposed to ionizing radiation and disruption of circadian rhythms, two exposures that may adversely affect reproductive function. Teachers will be enrolled as an external comparison group for this study.

Data from company personnel records containing demographic and work history information will be used to estimate workplace exposures. Each woman will be asked to complete a telephone questionnaire on reproductive history and other factors (such as cigarette smoking) that may influence reproductive function. Each questionnaire will take approximately 60 minutes to complete. Medical records will be requested to confirm adverse reproductive outcomes reported by the participants. The risk of adverse reproductive outcomes between the two groups of women will then be compared. The total annual burden hours are 6200.

Respondents | No. of respondents | No. of responses/respondent | Avg. burden per response
Workers | 6,200 | 1 | 1.0
Medical providers | 1,200 | 1 | 0.5

Dated: February 14, 2000.
Charles Gollmar,
Acting Associate Director for Policy, Planning and Evaluation, Centers for Disease Control and Prevention (CDC).

[FR Doc. 00-4201 Filed 2-23-00; 8:45 am]

BILLING CODE 4163-18-P